DEPARTMENT OF HEALTH AND HUMAN SERVICES

National Institutes of Health

National Cancer Institute; Amended Notice of Meeting

Notice is hereby given of a change in the meeting of the Board of Scientific Advisors, March 3, 2003, 8 a.m. to March 4, 2003, 1 p.m. Building 31, C Wing, 6th Floor, Conference Room 10, 9000 Rockville Pike, Bethesda MD 20892 which was published in the Federal Register on February 5, 2003, 68 FR 5901.

This meeting is amended to change the time of the open session of the Joint Meeting of the NCI, Board of Scientific Advisors and NCI Board of Scientific Counselors on March 3, 2003 from 8 a.m. to 10:45 a.m. The meeting was originally scheduled to be held from 8 a.m. to 10:15 a.m.

Dated: March 3, 2003.
LaVerne Y. Stringfield,
Director, Office of Federal Advisory Committee Policy.

[FR Doc. 03-5686 Filed 3-10-03; 8:45 am]

BILLING CODE 4140-01-M